DEPARTMENT OF COMMERCE

International Trade Administration

[C-122-868, C-560-834, C-552-826]

Utility Scale Wind Towers From Canada, Indonesia, and the Socialist Republic of Vietnam: Postponement of Preliminary Determinations of Countervailing Duty Investigations

AGENCY: Enforcement and Compliance, International Trade Administration, Department of Commerce.

DATES: Applicable September 13, 2019.

FOR FURTHER INFORMATION CONTACT: Moses Song at 202-482-7885 (Canada); Andrew Medley at 202-482-4987 (Indonesia); Julie Geiger at 202-482-2057 (the Socialist Republic of Vietnam (Vietnam)), AD/CVD Operations, Enforcement and Compliance, International Trade Administration, U.S. Department of Commerce, 1401 Constitution Avenue NW, Washington, DC 20230.

SUPPLEMENTARY INFORMATION:

Background

On July 29, 2019, the Department of Commerce (Commerce) initiated countervailing duty (CVD) investigations on utility scale wind towers (wind towers) from Canada, Indonesia, and Vietnam.¹ Currently, the preliminary determinations are due no later than October 2, 2019.

¹ See Utility Scale Wind Towers from Canada, Indonesia, and the Socialist Republic of Vietnam: Initiation of Countervailing Duty Investigations, 84 FR 38216 (August 6, 2019) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Wind Tower Trade Coalition.

On August 30, 2019, the petitioner submitted timely requests that Commerce postpone the preliminary CVD determinations.³ The petitioner stated that it requests postponement to allow the petitioner and other interested parties sufficient time to analyze the respondents' initial questionnaire responses and prepare deficiency comments, as well as submit new subsidy allegations. In addition, the petitioner stated that the postponements would allow Commerce to issue supplemental questionnaires and receive responses prior to making its preliminary CVD determinations.

³ See the petitioner's letters, “Utility Scale Wind Towers from Canada: Request to Postpone Preliminary Determination,” “Utility Scale Wind Towers from Indonesia: Request to Postpone Preliminary Determination,” and “Utility Scale Wind Towers from the Socialist Republic of Vietnam: Request to Postpone Preliminary Determination,” dated August 30, 2019.

In accordance with 19 CFR 351.205(e), the petitioner has stated the reasons for requesting a postponement of the preliminary determinations, and Commerce finds no compelling reason to deny the requests. Therefore, in accordance with section 703(c)(1)(A) of the Act, Commerce is postponing the deadline for the preliminary determinations to no later than 130 days after the day on which these investigations were initiated, i.e., December 6, 2019. Pursuant to section 705(a)(1) of the Act and 19 CFR 351.210(b)(1), the deadline for the final determinations of these investigations will continue to be 75 days after the date of the preliminary determinations, unless postponed at a later date.

This notice is issued and published pursuant to section 703(c)(2) of the Act and 19 CFR 351.205(f)(1).

Dated: September 9, 2019.
Jeffrey I. Kessler,
Assistant Secretary for Enforcement and Compliance.

[FR Doc. 2019-19866 Filed 9-12-19; 8:45 am]

BILLING CODE 3510-DS-P